DEPARTMENT OF ENERGY

Western Area Power Administration

[DOE/EIS-0370]

Record of Decision for the Windy Gap Firming Project

AGENCY: Western Area Power Administration, Department of Energy.

ACTION: Record of decision.

SUMMARY: The U.S. Department of Interior, Bureau of Reclamation, Eastern Colorado Area Office (Reclamation) prepared an Environmental Impact Statement (EIS) for the proposed Windy Gap Firming Project (Project) in North Central Colorado. The Municipal Subdistrict (Subdistrict), Northern Colorado Water Conservancy District, acting by and through the Windy Gap Firming Project Water Activity Enterprise, on behalf of the Project Participants, obtained approval from Reclamation for additional physical connections to Colorado-Big Thompson Project (C-BT) facilities in order to implement the proposed Project. Western Area Power Administration (Western), an agency within the U.S. Department of Energy (DOE), participated in the development of the EIS as a cooperating agency.

The EIS evaluated a no action alternative, along with four action alternatives each entailing the construction of new reservoirs along with pipelines and operational facilities at different locations. The action alternatives were designed to provide more reliable water deliveries to Front Range and West Slope communities and industry. Reclamation selected Alternative 2—Chimney Hollow Reservoir in its Record of Decision (ROD) dated December 19, 2014. In order to support Reclamation's decision, Western would need to relocate 3.8 miles of its existing Estes-Lyons 115-kilovolt (kV) wood H-frame transmission line away from the proposed Chimney Hollow Reservoir site to avoid its inundation.

FOR FURTHER INFORMATION CONTACT: For further information, please contact Mr. Matt Blevins, Western Area Power Administration, P.O. Box 281213, Lakewood, CO 80228-8213, telephone (720) 962-7261, or email: blevins@wapa.gov. For general information on DOE's National Environmental Policy Act (NEPA) review process, please contact Carol M. Borgstrom, Director, Office of NEPA Policy and Compliance, GC-54, U.S. Department of Energy, Washington, DC 20585, telephone (202) 586-4600 or (800) 472-2756, or email: askNEPA@hq.doe.gov.

SUPPLEMENTARY INFORMATION: Reclamation was the lead federal agency for the EIS (FES 11-19) and Western was a cooperating agency. The Notice of Availability for the Final EIS was published in the Federal Register on November 30, 2011 (76 FR 74074). Reclamation signed its ROD on December 19, 2014, and selected Alternative 2—Chimney Hollow Reservoir as its preferred alternative.

Reclamation's selected alternative directly affects a portion of Western's existing Estes-Lyons 115-kV transmission line, which lies within the design footprint of the proposed new Chimney Hollow Reservoir. In order to support Reclamation's decision, Western would need to relocate its transmission line away from the proposed reservoir to an area that preserves system reliability, maintenance accessibility, and safety. Western's relocation of the transmission line at the Chimney Hollow Reservoir site was evaluated in the EIS, including acquiring a 100 foot right-of-way, constructing access roads, and rebuilding approximately 3.8 miles of transmission line to the west of the proposed Chimney Hollow Reservoir. After an independent review of the EIS, Western has concluded that its comments have been satisfied and with this notice is adopting the EIS for its participation in the Project.

Western's Action

Western's action is to support Reclamation's decision in selecting Alternative 2—Chimney Hollow Reservoir and to relocate a 3.8 mile portion of Western's existing Estes-Lyons 115-kV transmission line away from the proposed Chimney Hollow Reservoir site to avoid its inundation. Final transmission line location, pole placement, and spacing will be determined by Western during final design.

Cultural Resources

Reclamation executed a Memorandum of Agreement (MOA) with the Colorado State Historic Preservation Office regarding the Project on April 19, 2012. Reclamation and Western must adhere to the stipulations of that MOA. The MOA stipulates that prior to any construction of the Project, Reclamation's Eastern Colorado Area Office will inventory the remaining 17.2 acres in the Area of Potential Effect and consult with the State Historic Preservation Office on eligibility and effects of the Project pursuant to 36 CFR part 800, including mitigation that will be set forth in an amendment to the MOA.

Endangered Species Act

Western's action would have no effect on federally listed terrestrial wildlife species or plants. However, the Project's Colorado River depletions could adversely impact four endangered Colorado River fish species. Impacts to the endangered species in the Colorado River were originally addressed in the 1981 U.S. Fish and Wildlife Service (Service) Biological Opinion for the original Windy Gap Reservoir based on an estimated average annual diversion of 57,300 acre feet (AF) of water. A Recovery Implementation Program (RIP) for Endangered Fish Species in the Upper Colorado River Basin was initiated on January 22, 1988.

The RIP was intended to be the reasonable and prudent alternative for individual projects to avoid the likelihood of jeopardy to the endangered fishes from depletions from the Upper Colorado River Basin. A Section 7 agreement was implemented on October 15, 1993, by RIP participants, and on December 20, 1999, the Service issued a Final Programmatic Biological Opinion (PBO), Operation and Depletions, Other Depletions, and Funding and Implementation of Recovery Program Actions in the Upper Colorado River above the Confluence with the Gunnison River. The Service determined that the Project fits under the umbrella of the Colorado River RIP and PBO and would avoid the likelihood of jeopardy and/or adverse modification of critical habitat for depletion impacts. Under the PBO, the Subdistrict will make a monetary contribution for the 21,317 AF of Colorado River water depletions to support the recovery efforts for these species in accordance with the RIP Recovery Action Plan.

Alternatives Considered

Reclamation considered in detail five alternatives, including Alternative 1—the No-action Alternative. This alternative consisted of continuation of operations under existing water rights and agreements between Reclamation and the Subdistrict for conveyance of the Windy Gap Project water through existing C-BT Project facilities and the reasonably foreseeable enlargement of Ralph Price Reservoir.

Alternative 2—Chimney Hollow Reservoir (Proposed Action). Alternative 2 included construction of a 90,000 AF Chimney Hollow Reservoir on the East Slope, with the ability to store C-BT Project water there. Water would be conveyed to Chimney Hollow Reservoir via a new pipeline connection to existing East Slope C-BT Project facilities but no new West Slope infrastructure would be constructed. This alternative would require Western to move its existing Estes-Lyons 115-kV transmission line away from the proposed Chimney Hollow Reservoir site to avoid inundation.

Alternative 3—Chimney Hollow Reservoir and Jasper East Reservoir. Alternative 3 was a combination of constructing a 70,000 AF Chimney Hollow Reservoir on the East Slope and a 20,000 AF Jasper East Reservoir on the West Slope. A new 1-mile pipeline would connect Jasper East Reservoir to the existing Windy Gap pipeline that delivers water to Granby Reservoir. The existing C-BT Willow Creek Pump Station, forebay, and portions of the canal and pipeline would be relocated. This alternative would require Western to move its existing Estes-Lyons 115-kV transmission line away from the proposed Chimney Hollow Reservoir site to avoid inundation.

Alternative 4—Chimney Hollow Reservoir and Rockwell/Mueller Creek Reservoir. This alternative is a combination of a 70,000 AF Chimney Hollow Reservoir on the East Slope and a 20,000 AF Rockwell/Mueller Creek Reservoir (Rockwell Reservoir) on the West Slope, a new pipeline connection to the existing Windy Gap pump station and a new 3.3-mile pipeline to Rockwell Reservoir. This alternative would require Western to move its existing Estes-Lyons 115-kV transmission line away from the proposed Chimney Hollow Reservoir site to avoid inundation.

Alternative 5—Dry Creek Reservoir and Rockwell/Mueller Creek Reservoir. This alternative is a combination of a 60,000 AF Dry Creek Reservoir on the East Slope, a 30,000 AF Rockwell Reservoir on the West Slope, and a new 3.4-mile pipeline and connection to the existing Windy Gap pump station. This alternative would require no action by Western.

Reclamation considers both the No Action Alternative and Alternative 2—Chimney Hollow Reservoir to be the environmentally preferable alternatives because of each alternative's relative overall effect on natural resources as described in their ROD.

Mitigation

The EIS analysis includes identification of standard construction mitigation measures for transmission line construction. Western will adhere to its standard construction mitigation measures described in the EIS. Long-term operations of the transmission line will follow Western's standard operating procedures and will not be affected by this action. A Mitigation Action Plan is not required for Western's proposed action.

Decision

Western's decision is to modify its transmission system as described above in support of Reclamation's decision to select Alternative 2—Chimney Hollow Reservoir.¹ This ROD was prepared following the requirements of the Council on Environmental Quality Regulations for Implementing the Procedural Provisions of the NEPA (40 CFR parts 1500-1508) and DOE's NEPA Implementing Procedures (10 CFR part 1021).

¹ On November 16, 2011, DOE's Acting General Counsel restated the delegations to Western's Administrator of all the authorities of the General Counsel respecting Environmental Impact Statements.

Dated: January 14, 2016.
Mark A. Gabriel,
Administrator.

[FR Doc. 2016-02031 Filed 2-2-16; 8:45 am]

BILLING CODE 6450-01-P